FEDERAL ELECTION COMMISSION

[Notice 2006-12]

Filing Dates for the Ohio Special Election in the 18th Congressional District

AGENCY: Federal Election Commission.

ACTION: Notice of filing dates for special election.

SUMMARY: Ohio has scheduled a special primary election on September 14, 2006, to fill the vacancy on the November 7, 2006, general election ballot that was created by the withdrawal of Representative Bob Ney.

Committees participating in the Ohio Special Primary Election are required to file pre-election reports.

FOR FURTHER INFORMATION CONTACT: Mr. Kevin R. Salley, Information Division, 999 E Street, NW., Washington, DC 20463; Telephone: (202) 694-1100; Toll Free (800) 424-9530.

SUPPLEMENTARY INFORMATION:

Principal Campaign Committees

All principal campaign committees of candidates who participate in the Ohio Special Primary shall file a 12-day Pre-Primary Report on September 2, 2006. (See chart below for the closing date for each report).

Unauthorized Committees (PACs and Party Committees)

Political committees filing on a quarterly basis in 2006 are subject to special election reporting if they make previously undisclosed contributions or expenditures in connection with the Ohio Special Primary Election by the close of books for the applicable report(s). (See chart below for the closing date for each report).

Committees filing monthly that support candidates in the Ohio Special Primary Election should continue to file according to the monthly reporting schedule.

Disclosure of Electioneering Communications (Individuals and Other Unregistered Organizations)

As required by the Bipartisan Campaign Reform Act of 2002, the Federal Election Commission promulgated new electioneering communications rules governing television and radio communications that refer to a clearly identified Federal candidate and are distributed within 30 days prior to a special primary election or 60 days prior to a special general election. 11 CFR 100.29. The statute and regulations require, among other things, that individuals and other groups not registered with the FEC who make electioneering communications costing more than $10,000 in the aggregate in a calendar year disclose that activity to the Commission within 24 hours of the distribution of the communication. See 11 CFR 104.20.

The 30-day electioneering communications period in connection with the Ohio Special Primary runs from August 15, 2006 through September 14, 2006.

Calendar of Reporting Dates for Ohio Special Election
[For Committees Involved In The Special Primary (09/14/06)]
Report | Close of books ¹ | Reg./cert. & overnight mailing date | Filing date
Pre-Primary | 08/25/06 | 08/30/06 | ² 09/02/06
October Quarterly | 09/30/06 | 10/15/06 | ² 10/15/06
¹ The period begins with the close of books of the last report filed by the committee. If the committee has filed no previous reports, the period begins with the date of the committee's first activity.
² Notice that this deadline falls on a holiday or a weekend. Filing dates are not extended when they fall on nonworking days.

Dated: August 21, 2006.
Michael E. Toner,
Chairman, Federal Election Commission.

[FR Doc. E6-14183 Filed 8-25-06; 8:45 am]

BILLING CODE 6715-01-P